DEPARTMENT OF TRANSPORTATION

Federal Aviation Administration

14 CFR Part 39

[Docket No. FAA-2012-0602; Directorate Identifier 2009-SW-061-AD]

RIN 2120-AA64

Airworthiness Directives; Schweizer Aircraft Corporation

AGENCY: Federal Aviation Administration (FAA), DOT.

ACTION: Notice of proposed rulemaking (NPRM).

SUMMARY: This document proposes to adopt a new airworthiness directive (AD) for Schweizer Aircraft Corporation (Schweizer) Model 269D and Model 269D Configuration A helicopters. The type certificate for these models is currently held by Sikorsky Aircraft Corporation (Sikorsky). This proposal is prompted by reports of loose horizontal stabilizers and cracks in the stabilizer-support structure for the extruded tailboom. The AD would require inspecting the aft fuselage assembly in the area around the attachment point of the horizontal stabilizer, including the paint, for a crack. This AD also would require inspecting the tailboom interior support structure, and if necessary, installing an inspection panel kit in the aft fuselage assembly, and installing doublers in the stabilizer support brackets. The actions specified by the proposed AD are intended to prevent separation of the horizontal stabilizer from the helicopter and subsequent loss of control of the helicopter.

DATES: We must receive comments on this proposed AD by August 10, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Sikorsky Aircraft Corporation, Attn: Manager, Commercial Technical Support, mailstop s581a, 6900 Main Street, Stratford, CT 06614; telephone (800) 562-4409; email tsslibrary@sikorsky.com; or at http://www.sikorsky.com. You may review copies of the referenced service information at the FAA, Office of the Regional Counsel, Southwest Region, 2601 Meacham Blvd., Room 663, Fort Worth, Texas 76137.

FOR FURTHER INFORMATION CONTACT: Stephen Kowalski, Aviation Safety Engineer, New York Aircraft Certification Office, Engine & Propeller Directorate, 1600 Stewart Ave. suite 410, Westbury, NY 11590; telephone (516) 228-7327; email stephen.kowalski@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

This document proposes adopting a new AD for the Schweizer Model 269D and Model 269D Configuration A helicopters, serial numbers 0001 to 0062A, with aft fuselage assembly part number (P/N) 269D3300-1 installed. This proposal is prompted by reports of loose horizontal stabilizers and cracks in the support structure for the extruded tailboom. The actions specified by the proposed AD are intended to prevent separation of the horizontal stabilizer from the helicopter and subsequent loss of control of the helicopter.

FAA's Determination

We are proposing this AD because we evaluated all known relevant information and determined that an unsafe condition exists and is likely to exist or develop on other products of the same type design.

Related Service Information

We have reviewed Schweizer Service Bulletin DB-018.3, dated December 13, 2007 (SB), which specifies inspecting for cracks in the fuselage assemblies and installing an inspection panel kit and stabilizer mount doublers. The Type Certificate for these helicopters transferred from Schweizer to Sikorsky on September 26, 2011.

Proposed AD Requirements

This proposed AD would require:

• Before the first flight of each day, visually inspecting the aft fuselage assembly in the area around the attachment point of the horizontal stabilizer for a crack.

• If there is a crack in the aft fuselage assembly clip, aft bulkhead, or adjacent skins, repairing the crack and either performing a repetitive inspection at intervals not to exceed 200 hours time-in-service (TIS) or replacing the aft fuselage assembly.

• If there is a crack in a longeron, tailboom tube collar or a forward stabilizer bulkhead, replacing the aft fuselage assembly.

• Within 100 hours TIS or three months, whichever occurs first:

○ Removing the horizontal stabilizer, cleaning the horizontal stabilizer mounting brackets, inspecting the mounting brackets for wear greater than 0.002-inch deep, and replacing the mounting bracket if the bracket wear exceeds 0.002-inch deep.

○ Modifying the aft fuselage assembly by installing Inspection Panel kit P/N SA-269DK-035, installing doublers on the forward side of each mounting bracket, inspecting the horizontal stabilizer forward and aft spars for wear in the mounting attachment areas, and replacing the spar if the wear exceeds 0.002-inch deep.

○ Inspecting for rivet interference between the rivet heads and skin on the top surface of the horizontal stabilizer and the tailboom stiffening web near Station 232.4 and replacing the rivets if interference exists.

○ Installing an airworthy horizontal stabilizer using 4 bolts, P/N NAS1304-4, and 4 washers, P/N AN960KD416 or NAS1149D0463K.

• Removing aft fuselage assembly P/N 269D3300-1, and replacing it with aft fuselage assembly P/N 269D3300-35, would be terminating action for the requirements of this AD.

Differences Between This Proposed AD and the Service Information

The Schweizer SB requires contacting the manufacturer if certain damage is found for repair instructions. This AD does not.

Costs of Compliance

We estimate that this proposed AD would affect 18 helicopters. The average labor rate is $85 per work hour. Based on these assessments, we estimate the following costs:

• Daily visual inspection. This would take about 10 minutes for a labor cost of $9. Assuming 365 daily inspections per year, the annual labor cost per helicopter would be about $3,285. The annual cost for the U.S. fleet would total $59,130.

• Internal inspection. This would take two work-hours for a labor cost of $170. Assuming 10 inspections a year, the annual labor cost per helicopter would be $1,700.

• Install inspection panel. This would take 16 work-hours for a labor cost of $1,360. Parts would cost $150 for a cost per helicopter of $1,510.

• Repair damaged longerons, tailboom tube collars, or forward stabilizer bulkhead as needed. This would take 24 work-hours for a labor cost of $2,040. Parts would cost $38,000 for a cost per helicopter of $40,040.

• Repair a crack in the aft fuselage assembly clip, aft bulkhead, or adjacent skins. This would take 24 work-hours for a labor cost of $2,040. Parts would cost $120 for a cost per helicopter of $2,160.

• Repair interference between the rivet heads and skin . This would take 10 work-hours for a labor cost of $850. No parts would be needed.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive

(AD): SCHWEIZER AIRCRAFT CORPORATION HELICOPTERS: Docket No. FAA-2012-0602; Directorate Identifier 2009-SW-061-AD.

(a) Applicability

This AD applies to Schweizer Aircraft Corporation (Schweizer) Model 269D and Model 269D Configuration A helicopters, serial numbers 0001 to 0062A, with aft fuselage assembly part number (P/N) 269D3300-1 installed, certificated in any category.

Note to Applicability: The type certificate for these models is currently held by Sikorsky Aircraft Corporation.

(b) Unsafe Condition

This AD defines the unsafe condition as loose horizontal stabilizers and cracks in the stabilizer support structure for the extruded tailboom, which could result in separation of the horizontal stabilizer from the helicopter and subsequent loss of helicopter control.

(c) Compliance

You are responsible for performing each action required by this AD within the specified compliance time unless it has already been accomplished prior to that time.

(d) Required Actions

(1) Before the first flight of each day, visually inspect the aft fuselage assembly in the area around the attachment point of the horizontal stabilizer, including the paint, for a crack. If there is a crack, remove the horizontal stabilizer and perform an interior inspection in accordance with Part II: Internal Inspection, paragraphs b. and c., of Schweizer Service Bulletin DB-018.3, dated December 13, 2007 (SB).

(i) If there is a crack in the aft fuselage assembly clip, in the aft bulkhead, or in adjacent skins, repair the crack. Thereafter, at intervals not to exceed 200 hours time-in-service (TIS), remove the horizontal stabilizer and repeat the interior inspection in accordance with Part II: Internal Inspection, paragraphs b. and c., of the SB, or replace the aft fuselage assembly, P/N 269D3300-1,with an airworthy aft fuselage assembly, P/N 269D3300-35.

(ii) If there is a crack in a longeron, tailboom tube collar or a forward stabilizer bulkhead, replace the aft fuselage assembly with an airworthy aft fuselage assembly, P/N 269D3300-35.

(2) Within 100 hours TIS or three months, whichever occurs first:

(i) Remove the horizontal stabilizer, clean the horizontal stabilizer mounting brackets, and inspect the mounting brackets for wear greater than 0.002-inch deep. If the bracket wear exceeds 0.002-inch deep, replace the mounting bracket with an airworthy mounting bracket.

(ii) Modify the aft fuselage assembly by installing Inspection Panel kit P/N SA-269DK-035.

(iii) Install doublers on the forward side of each mounting bracket in accordance with Part III-2, paragraphs e. through i., of the SB.

(iv) Inspect the horizontal stabilizer forward and aft spars for wear in the mounting attachment areas. If the wear exceeds 0.002-inch deep, replace the spar with an airworthy spar.

(v) Inspect for rivet interference between the rivet heads and skin on the top surface of the horizontal stabilizer and the tailboom stiffening web near Station 232.4. If interference exists, replace with airworthy rivets.

(vi) Install an airworthy horizontal stabilizer using 4 bolts, P/N NAS1304-4, and 4 washers, P/N AN960KD416 or NAS1149D0463K.

(3) Removing aft fuselage assembly, P/N 269D3300-1, and replacing it with aft fuselage assembly, P/N 269D3300-35, is terminating action for the requirements of this AD.

(e) Special Flight Permit

Special flight permits may be issued in accordance with 14 CFR 21.197 and 21.199 provided that before operating the helicopter to a location to perform the actions in paragraphs (d)(1) through (d)(3) of this AD, a daily, pre-flight visual inspection is accomplished in accordance with paragraph (d)(1) of this AD.

(f) Alternative Methods of Compliance (AMOC)

(1) The Manager, NYACO, FAA, may approve AMOCs for this AD. Send your proposal to: Stephen Kowalski, Aviation Safety Engineer, New York Aircraft Certification Office, Engine & Propeller Directorate, 1600 Stewart Ave., suite 410, Westbury, NY 11590; telephone (516) 228-7327; email stephen.kowalski@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

For service information identified in this AD, contact Sikorsky Aircraft Corporation, Attn: Manager, Commercial Technical Support, mailstop s581a, 6900 Main Street, Stratford, CT 06614; telephone (800) 562-4409; email tsslibrary@sikorsky.com; or at http://www.sikorsky.com. You may review a copy of information at the FAA, Office of the Regional Counsel, Southwest Region, 2601 Meacham Blvd., Room 663, Fort Worth, Texas 76137.

(h) Subject

Joint Aircraft Service Component (JASC) Code: 5302, Rotorcraft tailboom.

Issued in Fort Worth, Texas, on May 25, 2012.
Lance T. Gant,
Acting Manager, Rotorcraft Directorate, Aircraft Certification Service.

[FR Doc. 2012-14037 Filed 6-8-12; 8:45 am]

BILLING CODE 4910-13-P